DEPARTMENT OF COMMERCE

National Oceanic and Atmospheric Administration

50 CFR Part 679

[Docket No. 021212307-2307-01; I.D. 011503C]

Fisheries of the Exclusive Economic Zone Off Alaska; Rock Sole Sideboard Limit in the Bering Sea and Aleutian Islands Management Area

AGENCY: National Marine Fisheries Service (NMFS), National Oceanic and Atmospheric Administration (NOAA), Commerce.

ACTION: Closure.

SUMMARY: NMFS is prohibiting directed fishing for rock sole by catcher processors that are listed under the American Fisheries Act (AFA) in the Bering Sea and Aleutian Islands management area (BSAI). This action is necessary to prevent exceeding the interim 2003 sideboard limit of rock sole specified for listed AFA catcher processors in the BSAI.

DATES: Effective 1200 hrs, Alaska local time, January 29, 2003, until superseded by the notice of Final 2003 Harvest Specifications of Groundfish for the BSAI, which will be published in the Federal Register.

FOR FURTHER INFORMATION CONTACT: Mary Furuness, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and part 679.

The interim 2003 sideboard limit of rock sole specified for listed AFA catcher processors in the BSAI is 359 metric tons (mt) as established by the interim 2003 harvest specifications for groundfish in the BSAI (67 FR 78739, December 26, 2002).

In accordance with § 679.20(d)(1)(iv), the Administrator, Alaska Region, NMFS (Regional Administrator), has determined that the interim 2003 sideboard limit of rock sole specified for listed AFA catcher processors will be reached. Therefore, the Regional Administrator is establishing a directed fishing allowance of zero mt, and is setting aside the 359 mt of the interim 2003 sideboard limit of rock sole specified for listed AFA catcher processors as bycatch to support other anticipated groundfish fisheries. Therefore, in accordance with § 679.20(d)(1)(iii), NMFS is prohibiting directed fishing for rock sole by listed AFA catcher processors in the BSAI.

Maximum retainable amounts may be found in the regulations at § 679.20(e) and (f).

Classification

This action responds to the best available information recently obtained from the fishery. The Assistant Administrator for Fisheries, NOAA, finds good cause to waive the requirement to provide prior notice and opportunity for public comment pursuant to the authority set forth at 5 U.S.C. 553(b)(B) as such requirement is contrary to the public interest. This requirement is contrary to the public interest as it would delay the closure of the fishery, lead to exceeding the interim sideboard limit for listed AFA catcher processors, and therefore reduce the public's ability to use and enjoy the fishery resource.

The Assistant Administrator for Fisheries, NOAA also finds good cause to waive the 30-day delay in the effective date of this action under 5 U.S.C. 553(d)(3). This finding is based upon the reasons provided above for waiver of prior notice and opportunity for public comment.

This action is required by section 679.20 and is exempt from review under Executive Order 12866.

Authority: Authority: 16 U.S.C. 1801 et seq.

Dated: January 21, 2003.
Richard W. Surdi,
Acting Director, Office of Sustainable Fisheries, National Marine Fisheries Service.

[FR Doc. 03-1785 Filed 1-24-03; 8:45 am]

BILLING CODE 3510-22-S